DEPARTMENT OF AGRICULTURE

Commodity Credit Corporation

Farm Service Agency

Notice of Intent To Prepare a Supplemental Programmatic Environmental Impact Statement for the Conservation Reserve Program

AGENCY: Commodity Credit Corporation and Farm Service Agency, USDA.

ACTION: Notice of Intent (NOI); request for comments.

SUMMARY: This notice announces that the Farm Service Agency (FSA), on behalf of the Commodity Credit Corporation (CCC), intends to complete a Supplemental Programmatic Environmental Impact Statement (SPEIS) assessing the environmental impacts of potential changes to the Conservation Reserve Program (CRP), as required by the National Environmental Policy Act of 1969 (NEPA). The intent of this notice is to provide an initial summary introduction to the alternatives being considered for potential changes to CRP, and to request comments on these proposed alternatives. The input we receive as a result of this notice will enable us to refine the alternatives, begin to evaluate their impacts, and document results in the scoping report as required by NEPA.

DATES: We will consider comments that we receive by January 13, 2014. Comments received after this date will be considered to the extent possible.

ADDRESSES: We invite you to submit comments on this NOI. In your comments, include the volume, date, and page number of this issue of the Federal Register. You may submit comments by any of the following methods:

• Federal eRulemaking Portal: Go to http://www.regulations.gov. Follow the online instructions for submitting comments;

• Online: Go to www.CRPSPEIS.com. Follow the online instructions for submitting comments;

• Email: CRPcomments@cardnotec.com.

• Fax: (757) 594-1469.

• Mail, Hand Delivery, or Courier: CRP SPEIS, c/o Cardno TEC, Inc., 11817 Canon Blvd., Suite 300, Newport News, VA 23606.

All written comments will be available for inspection online at www.regulations.gov and in the Office of the Director, Conservation and Environmental Programs Division, FSA, USDA, 1400 Independence Ave. SW., Room 4709 South Building, Washington, DC 20250, during business hours between 8:00 a.m. and 4:30 p.m., Monday through Friday, except holidays. A copy of this notice is available through the FSA home page at http://www.fsa.usda.gov/.

FOR FURTHER INFORMATION CONTACT: For questions, contact Nell Fuller, National Environmental Compliance Manager, telephone: (202) 720-6303. For the documents discussed in this notice, go to www.CRPSPEIS.com. Persons with disabilities who require alternative means for communication (Braille, large print, audio tape, etc.) should contact the USDA Target Center at (202) 720-2600 (voice and TDD).

SUPPLEMENTARY INFORMATION: As required by NEPA regulations (40 CFR 1500-1508), FSA is assessing potential changes to CRP in 2014 by preparing a SPEIS (2014 CRP SPEIS), to provide FSA decisionmakers, other agencies, Tribes, and the public with an analysis that evaluates program effects in appropriate contexts, describes the intensity of adverse as well as beneficial impacts, and addresses cumulative environmental impacts associated with proposed programmatic changes to CRP. CRP was first authorized in the Food Security Act of 1985, Public Law 99-198, 99 Stat. 1509-1514 (16 U.S.C. 3831-3836), and is governed by regulations in 7 CFR part 1410. CRP is a voluntary program that supports the implementation of long-term conservation measures designed to improve the quality of ground and surface waters, control soil erosion, and enhance wildlife habitat on environmentally sensitive agricultural land. In return, CCC provides participants with rental payments and cost share assistance under contracts that extend from 10 to 15 years. CRP is a CCC program administered by FSA with the support of other Federal, State, and local agencies and organizations. More information on CRP is available at http://www.fsa.usda.gov/FSAwebapp?area=home&/subject=copr&/topic=crp.

Over the last decade, FSA has completed extensive NEPA analysis pertaining to CRP and components of the program. The 2014 CRP SPEIS will tier to (that is, it will focus on analyzing the new changes and incorporate and augment the prior analyses) and incorporate by reference other applicable NEPA documentation, as appropriate, and supplement the 2010 CRP SEIS. As such, only those proposed changes to CRP that have not been adequately addressed in other NEPA documentation will be addressed in the 2014 CRP SPEIS. Other applicable NEPA documentation can be found at www.CRPSPEIS.com and includes:

• The 2003 CRP Environmental Impact Statement (EIS) and resulting Record of Decision (ROD), which evaluated the environmental consequences of changes to CRP under the Farm Security and Rural Investment Act of 2002, Public Law 107-171 (which is commonly known as the 2002 Farm Bill).

• The 2008 13 state-level CRP Environmental Assessments (EAs) and resulting Findings of No Significant Impacts (FONSI), which analyzed the environmental impacts of managed haying and grazing variations on CRP contracts.

• The 2008 CRP Programmatic EA (PEA) and FONSI, which evaluated mandatory changes to CRP reauthorized by the Food, Conservation, and Energy Act of 2008, Public Law 10-246 (2008 Farm Bill).

• The 2010 CRP SEIS and ROD, which evaluated changes to CRP enacted by the 2008 Farm Bill and supplemented the 2003 CRP EIS.

• The 2012 CRP PEA and FONSI, which evaluated the environmental consequences associated with authorizing emergency haying and grazing of CRP conservation practices (CPs) that had previously been ineligible, and helped alleviate local impacts to farmers and ranchers as a result of extreme drought and high temperatures during 2012.

Building on that NEPA documentation, the 2014 CRP SPEIS will help FSA review potential alternatives to, and environmental impacts expected to result from, proposed changes to CRP. The results of the 2014 CRP SPEIS and subsequent ROD will be used in implementing and modifying CRP administration and will also serve as guidance to FSA decision-makers when considering proposed CRP changes.

The SPEIS process provides a means for the public, other agencies, and Tribes to provide input on program implementation alternatives and their impacts, and other environmental concerns. We encourage you to participate in helping to define the scope of the draft 2014 CRP SPEIS.

Summary Description of Preliminary Alternatives

To initiate the process, FSA has developed a set of preliminary alternatives to be studied and impacts to be analyzed in the draft 2014 CRP SPEIS. At this time, FSA is proposing three alternatives (the No Action alternative and two action alternatives). The No Action alternative (continuation of CRP as it is currently administered and analyzed in the 2010 CRP SEIS) will be evaluated as required by the Council on Environmental Quality (CEQ) regulations (40 CFR parts 1500-1508).

FSA expects legislative changes to CRP in the next Farm Bill (or other relevant legislation). Although the timing of the next legislative change to CRP is uncertain, to be able to implement the changes expeditiously, FSA is getting a start on the analysis of potential changes by including potential legislative changes in the alternatives. As a starting point for the required NEPA analysis that will be required before FSA can implement regulatory changes when the Farm Bill is enacted, FSA determined that using the proposals most recently passed by the House and the Senate, respectively, was reasonable. Because those proposals may change, it did not seem prudent to detail those proposed changes in this notice; the alternatives will be revised as needed in response to legislation and public and other input. To see the details that FSA is working from, refer to www.CRPSPEIS.com for the text of the House and Senate proposals used as our starting point. At this point, the two separate CRP proposals, however they are eventually modified, will be the foundation for our proposed federal actions, and are therefore included as separate alternatives. They are similar, but have some differences, and as discussed below, are not the sole components of the action alternatives.

When the next Farm Bill is enacted (or any other legislative change to CRP), the resulting legislative changes to CRP will be used along with the public and other input to this NOI to fully articulate the alternatives and their impacts, which will be fully described in the resulting scoping report.

FSA has developed the two action alternatives that include the provisions from each of the respective proposed legislative changes to CRP, as well as the following discretionary considerations, to ensure that the 2014 CRP SPEIS captures the full range of potential alternatives, impacts, and issues anticipated: Administrative, staffing, and budgetary considerations; efficiency and jurisdiction concerns; and other factors. The alternatives and impacts will be amended, as appropriate, based on input from the public, other agencies, and Tribes during the scoping process, as well as by any legislative changes to CRP.

Both of the two action alternatives include a gradual reduction of the CRP enrollment cap by 20 to 25 percent over the next 5 years. In the 2014 CRP SPEIS, FSA will analyze discretionary measures to meet the proposed mandatory reduction in enrollment while maintaining the maximum environmental benefit realized from the program.

Other discretionary provisions, which FSA identified separately from any pending legislative changes, to be addressed in the 2014 CRP SPEIS include:

• Changing the enrollment cap on the Farmable Wetlands Program;

• Reducing incentive and cost-share payments for tree thinning activities;

• Evaluating other forms or processes for enrollment under continuous sign-up;

• Adding flexibility for haying and grazing, including emergency haying and grazing on otherwise ineligible CRP CPs (as addressed in the 2012 CRP PEA and FONSI); and

• Providing transition options for expiring contracts to enroll in other conservation programs.

Signed on November 21, 2013.
Candace Thompson,
Acting Executive Vice President, Commodity Credit Corporation, and Acting Administrator, Farm Service Agency.

[FR Doc. 2013-28520 Filed 11-27-13; 8:45 am]

BILLING CODE 3410-05-P